DEPARTMENT OF DEFENSE

Department of the Air Force

Amended Notice of Intent

AGENCY: United States Air Force, Air Mobility Command, Federal Aviation Administration.

ACTION: Amended notice of intent.

Authority: 42 U.S.C. 4321-4347; 40 CFR Parts 1500-1508; and 32 CFR Part 989.

SUMMARY: On Thursday, September 18, 2008, the Air Force issued its Notice of Intent (NOI) to prepare an Environmental Impact Statement (EIS) for the Base Closure and Realignment (BRAC) Beddown and Flight Operations of Unmanned Aerial Systems (UAS) at Grand Forks Air Force Base, North Dakota (Federal Register/Vol. 73, No. 182/pg. 54139).

This Amended Notice of Intent extends the scoping period from 30 October 2008 to 21 November 2008, and reflects the collaborative efforts put forth by both the Air Force and FAA, as cooperating agencies, to meet their respective roles and responsibilities in the EIS process. Additional information is available at the project Web site listed below.

For Further Information and Comment Submittal Contact: Mr. Doug Allbright, 618-229-0846, HQ AMC/A7PI, 507 Symington Drive; Scott Air Force Base, Illinois 62225 or via the project Web site at: http://www.grandforksuaseis.com.

Bao-Anh Trinh,
Air Force Federal Register Liaison Officer.

[FR Doc. E8-22778 Filed 9-26-08; 8:45 am]

BILLING CODE 5001-05-P